DEPARTMENT OF HEALTH AND HUMAN SERVICES

Administration for Children and Families

Notice of Meeting; National Commission on Children and Disasters

AGENCY: Administration for Children and Families, Department of Health and Human Services.

ACTION: Notice of Meeting.

DATES: The meeting will be held on Monday, February 1, 2010, from 9 a.m. to 5:30 p.m.

ADDRESSES: The meeting will be held at the Renaissance Mayflower Hotel, 1127 Connecticut Avenue, NW., Washington, DC 20036. To attend in person, please register by 5 p.m. Eastern Time, January 28, 2010. To register, please visit http://www.childrenanddisasters.acf.hhs.gov. If you experience technical difficulties, please contact NCCDregister@theambitgroup.com. If you require a sign language interpreter or other special assistance, please call Jacqueline Haye at (202) 205-9560 or e-mail jacqueline.haye@acf.hhs.gov as soon as possible and no later than 5 p.m. Eastern Time, January 19, 2010.

Agenda: The National Commission on Children and Disasters is hosting a Long-Term Disaster Recovery Workshop to explore challenges and solutions that impact the unique needs of children. This one day forum provides an opportunity for Federal, State, Tribal, local and non-governmental partners to inform the Commission as it prepares its Final Report to the President and the Congress, due October 2010. Key issues that will be discussed at the workshop include children's access to medical care, the provision of mental health services to children, and barriers to information and data sharing.

Additional Information: Contacts: Roberta Lavin, Office of Human Services Emergency Preparedness and Response, e-mail Roberta.lavin@acf.hhs.gov or (202) 401-9306.

SUPPLEMENTARY INFORMATION: The National Commission on Children and Disasters is an independent Commission that shall conduct a comprehensive study to examine and assess the needs of children as they relate to preparation for, response to, and recovery from all hazards, building upon the evaluations of other entities and avoiding unnecessary duplication by reviewing the findings, conclusions, and recommendations of these entities. The Commission shall then submit a report to the President and the Congress on the Commission's independent and specific findings, conclusions, and recommendations to address the needs of children as they relate to preparation for, response to, and recovery from all hazards, including major disasters and emergencies.

Dated: December 28, 2009.
David A. Hansell,
Principal Deputy Assistant Secretary for Children and Families.

[FR Doc. E9-31402 Filed 1-6-10; 8:45 am]

BILLING CODE 4184-01-M